DEPARTMENT OF THE INTERIOR

National Park Service

[NPS-WASO-NRNHL-DTS#-25397; PPWOCRADI0, PCU00RP14.R50000]

National Register of Historic Places; Notification of Pending Nominations and Related Actions

AGENCY: National Park Service, Interior.

ACTION: Notice.

SUMMARY: The National Park Service is soliciting comments on the significance of properties nominated before April 7, 2018, for listing or related actions in the National Register of Historic Places.

DATES: Comments should be submitted by May 11, 2018.

ADDRESSES: Comments may be sent via U.S. Postal Service and all other carriers to the National Register of Historic Places, National Park Service, 1849 C St. NW, MS 7228, Washington, DC 20240.

SUPPLEMENTARY INFORMATION:

The properties listed in this notice are being considered for listing or related actions in the National Register of Historic Places. Nominations for their consideration were received by the National Park Service before April 7, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ILLINOIS

Du Page County

Himmelfarb, Samuel and Eleanor House and Studio, 28W 120 Marion Rd., Winfield, SG100002417

McLean County

Children's Village—Illinois Soldiers' and Sailors' Children's School, 1100 N Beech St., Normal, SG100002418

MASSACHUSETTS

Hampshire County

Pomeroy Terrace Historic District, Pomeroy Terr., Phillips & Butler Pls., Bixby Ct., Hawley, Hancock, & Bridge Sts., Northampton, SG100002420

Norfolk County

Davenport Estate Historic District, 1465, 1485, 1493 Brush Hill Rd., Milton, SG100002421

MISSISSIPPI

Hinds County

Waterhouse—Simmons House, 646 Seneca Ave., Jackson, SG100002422

Warren County

Polk—Sherard—Hinman House, 2615 Confederate Ave., Vicksburg, SG100002423

MISSOURI

Jackson County

Crane Company Building, The (Railroad Related Historic Commercial and Industrial Resources in Kansas City, MO MPS) 1105-1107 Hickory St., Kansas City, MP100002424

First Swedish Baptist Church, 3931 Washington St., Kansas City, SG100002425

Lee's Summit Post Office, 210 SW Market St., Lee's Summit, SG100002426

McGee Street Automotive Historic District, Bounded by E 17th & E 20th Sts., McGee St. at the 1700 & 1900 blks., Alleys between McGee and Grand at 1800 blk. & McGee & Oak Sts., Kansas City, SG100002427

St. Louis County

Atwood, John C. and Georgie, House, (Ferguson, Missouri, MPS), 100 S. Clay Ave., Ferguson, MP100002428

St. Louis Independent City

Employment Security Building, 505 Washington Ave., St. Louis (Independent City), SG100002429

Stoddard County

Miller, Henry, House, 106 Cape Rd., Bloomfield, SG100002430

TEXAS

Cameron County

Fernandez and Laiseca Building, 1142-1154 Madison St., Brownsville, SG100002433

Collin County

Saigling House, 902 E 16th St., Plano, SG100002434

Harris County

Maria Boswell Flake Home for Old Women, 1103 Berry St., Houston, SG100002435

Tom Green County

Roosevelt Hotel, 50 N Chadbourne St., San Angelo, SG100002436

Williamson County

Taylor High School Campus, 410 W 7th St., Taylor, SG100002437

VIRGINIA

Augusta County

Thompson, Fannie, House, 7 Old Staunton Rd., Greenville, SG100002438

Fairfax County

Mount Vernon High School, 8333 Richmond Hwy., Alexandria vicinity, SG100002439

Henrico County

Highland Springs Historic District, W & E Nine Mile Rd. N & S Holly Ave., Highland Springs, SG100002440

Washington County

Retirement and the Muster Grounds, 702 Colonial Rd. SW, Abingdon, SG100002441

WISCONSIN

Outagamie County

South Greenville Grange No. 225, W6920 Cty. Rd. BB, Greenville, SG100002443

Portage County

Rising Star Flouring Mill, 3190 Cty. Rd. Q, Nelsonville, SG100002444

Washington County

Schwartz Family Home, 220 Union St., Hartford, SG100002445

Additional documentation has been received for the following resources:

ARIZONA

Pima County

Blixt—Avitia House, (Menlo Park MPS), 830 W Alameda St., Tucson, AD92000251

Yuma County

Fredley Apartments, (Yuma MRA), 406 2nd Ave., Yuma, AD82001634

Fredley House, (Yuma MRA), 408 2nd Ave., Yuma, AD82001635

Nomination submitted by Federal Preservation Officer:

The State Historic Preservation Officer reviewed the following nomination and responded to the Federal Preservation Officer within 45 days of receipt of the nomination and supports listing the property in the National Register of Historic Places.

COLORADO

Larimer County

Fall River Road (Boundary Increase and Additional Documentation), (Rocky Mountain National Park MRA), Fall River Rd., Estes Park vicinity, BC100002416

Authority: Section 60.13 of 36 CFR part 60.

Dated: April 9, 2018.
J. Paul Loether,
Chief, National Register of Historic Places/National Historic Landmarks Program and Keeper, National Register of Historic Places.

[FR Doc. 2018-08774 Filed 4-25-18; 8:45 am]

BILLING CODE 4312-52-P